DEPARTMENT OF THE INTERIOR

National Park Service

[NPS-WASO-NAGPRA-13881; PPWOCRADN0-PCU00RP14.R50000]

Notice of Inventory Completion: Thomas Burke Memorial Washington State Museum, University of Washington, Seattle, WA; Correction

AGENCY: National Park Service, Interior.

ACTION: Notice; correction.

SUMMARY: The Thomas Burke Memorial Washington State Museum, University of Washington (Burke Museum), has corrected an inventory of human remains published in a Notice of Inventory Completion in the Federal Register on July 30, 2013. This notice removes one paragraph for human remains incorrectly identified as being removed from Careless Bay, WA.

ADDRESSES: Peter Lape, Burke Museum, University of Washington, Box 353010, Seattle, WA 98195, telephone (206) 685-3849, email plape@uw.edu.

SUPPLEMENTARY INFORMATION: Notice is here given in accordance with the Native American Graves Protection and Repatriation Act (NAGPRA), 25 U.S.C. 3003, of the correction of an inventory of human remains under the control of the Burke Museum.

This notice is published as part of the National Park Service's administrative responsibilities under NAGPRA, 25 U.S.C. 3003(d)(3). The determinations in this notice are the sole responsibility of the museum, institution, or Federal agency that has control of the Native American human remains. The National Park Service is not responsible for the determinations in this notice.

This notice removes a paragraph from a Notice of Inventory Completion published in the Federal Register (78 FR 45958-45959, July 30, 2013). The location from which the human remains were removed was incorrectly identified as Careless Bay, WA. These human remains will be the subject of a subsequent notice, correcting the location and the cultural affiliation of these human remains. Transfer of control of the items in this correction notice has not occurred.

Correction

In the Federal Register (78 FR 45958-45960, July 30, 2013), paragraph 12 is removed in its entirety.

In the Federal Register (78 FR 45958-45960, July 30, 2013), paragraph 19, is corrected by substituting the following sentence:

Pursuant to 25 U.S.C. 3001(9), the human remains described in this notice represent the physical remains of six individuals of Native American ancestry.

The Burke Museum is responsible for notifying the Stillaguamish Tribe of Indians of Washington (previously listed as Stillaguamish Tribe of Washington); Swinomish Indians of the Swinomish Reservation of Washington; and the Tulalip Tribes of Washington (previously listed as the Tulalip Tribes of the Tulalip Reservation, Washington) that this notice has been published.

Dated: August 20, 2013.
Sherry Hutt,
Manager, National NAGPRA Program.

[FR Doc. 2013-23813 Filed 9-27-13; 8:45 am]

BILLING CODE 4312-50-P